DEPARTMENT OF HEALTH AND HUMAN SERVICES

Office of the Secretary; Meeting of the National Human Research Protections Advisory Committee (NHRPAC)

AGENCY: Office of Public Health and Science, Office for Human Research Protections, HHS.

ACTION: Notice of April 29-30, 2002 Meeting; Correction.

SUMMARY: The National Human Research Protections Advisory Committee published an announcement in the Federal Register on March 13, 2002, concerning the April 29-30, 2002 NHRPAC committee meeting. The announcement contained the incorrect location of the meeting.

FOR FURTHER INFORMATION CONTACT: Keisha Johnson, (301) 435-4917.

Correction

In the Federal Register of March 13, 2002, in FR Doc. 02-5925, on page 11343, in the second column, correct the Addresses caption to read:

ADDRESSES: Hilton Washington Embassy Row, 2015 Massachusetts Avenue, NW., Washington, DC 20036, (202) 265-1600.

Dated: March 21, 2002.
Greg Koski,
Executive Secretary, National Human Research Protections Advisory Committee.

[FR Doc. 02-7280 Filed 3-26-02; 8:45 am]

BILLING CODE 4150-28-P